DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-0361.

Project: Projects for Assistance in Transition From Homelessness (PATH) Program Annual Report Manual (OMB No. 0930-0205)—Revision

SAMHSA awards PATH grants each fiscal year to states, the District of Columbia, the Commonwealth of Puerto Rico, the Virgin Islands, Guam, American Samoa, and the Commonwealth of the Northern Mariana Islands (hereafter referred to as “states”), from allotments authorized under the PATH program established by Public Law 101-645, 42 U.S.C. 290cc-21 et seq., the Stewart B. McKinney Homeless Assistance Amendments Act of 1990 [Section 521 et seq. of the Public Health Service (PHS) Act and the 21st Century Cures Act (Pub. L. 114-255), hereafter referred to as “the Act”]. Section 522 of the Act specifies that states must expend their payments solely for making grants to political subdivisions of the state, and to non-profit private entities (including community-based veterans' organizations and other community organizations) for the purpose of providing services specified in the Act. Available funding is allotted in accordance with the formula provision of Section 524 of the PHS Act. This submission is for a revision to the approved PATH Annual Report Manual. Section 528 of the Act specifies, not later than January 31 of each fiscal year, a funded entity will “prepare and submit to the Secretary a report in such form and containing such information as the Secretary determines to be necessary for: (1) securing a record and a description of the purposes for which amounts received under Section 521 were expended during the preceding fiscal year and of the recipients of such amounts; and (2) determining whether such amounts were expended in accordance with the provisions of this part.”

The proposed revisions to the PATH 2020 Annual Report Manual are as follows: Homeless Management Information System (HMIS) Data Standards updates.

When needed, field response options and questions have been updated to align with the most recent version of the HMIS Data Standards.

In July 2022, HUD released updated HMIS programming specifications (Version 3.6) for the PATH Annual Report, which changed the instructions for counting contacts in questions 12a and 12b. HMIS vendors received these programming updates and HUD encouraged them to implement the changes by October 1, 2022. When providers run their PATH Annual Report in HMIS, it should reflect Version 3.6, including these most recent programming changes. In October 2022, SAMHSA launched a new PDX website for State Path Contacts (SPCs) and providers, who will use the site to enter provider-level data for their PATH Annual Report and progress reports. User guides were created to describe the features and functions of the new PDX site and provides guidance for reviewing and submitting PATH Annual Reports, setting up and reviewing progress reports, and accessing PATH resources.

The requested revisions will not increase the overall burden.

The estimated annual burden for these reporting requirements is summarized in the table below.

Respondents | Number of respondents | Responses per respondent | Burden per response (hrs.) | Total burden
States | 56 | 1 | 15 | 840
Local provider agencies | 437 | 1 | 15 | 6,555
Total | 493 |  |  | 7,395

Written comments and recommendations for the proposed information collection should be sent within 30 days of publication of this notice to www.reginfo.gov/public/do/PRAMain. Find this particular information collection by selecting “Currently under 30-day Review—Open for Public Comments” or by using the search function.

Alicia Broadus,
Public Health Advisor.

[FR Doc. 2023-05307 Filed 3-14-23; 8:45 am]

BILLING CODE 4162-20-P